DEPARTMENT OF ENERGY

Federal Energy Regulatory Commission

[Docket No. ER93-540-010, et al.]

American Electric Power Service Corporation., et al.; Electric Rate and Corporate Regulation Filings

August 22, 2000.

Take notice that the following filings have been made with the Commission:

1. American Electric Power Service Corporation

[Docket No. ER93-540-010]

Take notice that on August 17, 2000, American Electric Power Service Corporation, on behalf of the operating companies of the America Electric Power System (collectively AEP), tendered for filing a refund report in compliance with the Commission's order in American Electric Power Service Corporation, 92 FERC ¶ 61,001 (2000).

Comment date: September 7, 2000, in accordance with Standard Paragraph E at the end of this notice.

2. The United Illuminating Company, Complainant, v. ISO New England Inc., Respondent

[Docket No. EL00-100-000]

Take notice that on August 18, 2000, The United Illuminating Company (UI), tendered for filing a Complaint in which UI petitions the Commission for an order directing ISO New England Inc. (ISO-NE) to disregard the $6,000/MWh bids received for hours 14 through 17 and the $2,870/MWh bid received for hour 13 on May 8, 2000, in setting the New England Energy Market clearing price for those hours. UI also petitions the Commission for an order directing ISO-NE to mitigate the actual bid prices by substituting the seller's actual marginal cost for the $6,000/MWh and $2,870/MWh bids.

Comment Date: September 7, 2000, in accordance with Standard Paragraph E at the end of this notice. Answers to the complaint shall also be due on or before September 7, 2000.

3. New Horizon Electric Cooperative, Inc. v. Duke Electric Transmission, a Division of Duke Power Company

[Docket No. EL00-101-000]

Take notice that on August 18, 2000, New Horizon Electric Cooperative (NHEC), on behalf of Saluda River Electric Cooperative, Inc. and its five member systems, tendered for filing a complaint against Duke Electric Transmission, a division of Duke Power Company (Duke or Duke ET), requesting fast track processing. NHEC seeks to resolve certain disputes regarding the terms and conditions for long-term network transmission service under Duke ET's Open Access Transmission Service Tariff. Specifically, NHEC requests a ruling by the Commission on the following issues: (1) the applicability of Duke ET's Schedule 4 Energy Imbalance Service to NHEC once NHEC has implemented dynamic scheduling to electronically transfer its load from Duke ET's control area to a neighboring control area, beginning January 1, 2001; (2) filing requirements with respect to Duke ET's Facility Connection Requirements and Power Factor Penalty documents; (3) comparable application of the Facility Connection Requirements and Power Factor Penalty to Duke Power's use of the Duke ET transmission grid; and (4) the appropriate calculation of charges for Schedule 3 Regulation and Frequency Response Service when applicable to NHEC. NHEC requests that the Commission bifurcate its consideration of the Energy Imbalance Service issue and grant NHEC's requested relief on this dispute before January 1, 2001.

Comment date: September 7, 2000, in accordance with Standard Paragraph E at the end of this notice. Answers to the complaint shall also be due on or before September 7, 2000.

4. NUSCO Connecticut Light & Power Company

[Docket No. ER99-3196-001]

Take notice that on August 17, 2000, Northeast Utilities Service Company (NUSCO), and the Massachusetts Attorney General (MassAG), jointly tendered for filing notification that the Massachusetts Department of Telecommunications and Energy (MassDTE), approved the Settlement Agreement on August 4, 2000 in the above-referenced proceeding.

Comment date: September 7, 2000, in accordance with Standard Paragraph E at the end of this notice.

5. Midwest Generation, LLC

[Docket No. ER00-3424-000]

Take notice that on August 16, 2000, Midwest Generation, LLC tendered for filing under its market-based rate tariff a long-term service agreement with Edison Mission Marketing & Trading, Inc.

The effective date of the agreement is August 1, 2000.

Comment date: September 6, 2000, in accordance with Standard Paragraph E at the end of this notice.

6. Dynegy Power Marketing, Inc.

[Docket No. ER00-3429-000]

Take notice that on August 17, 2000, Dynegy Power Marketing, Inc. (Dynegy), tendered for filing its Fourth Revised Electric Rate Schedule FERC No. 1. The revised Rate Schedule updates and expands Dynegy's Rate Schedule FERC No. 1 to provide for the wholesale sales of ancillary services at market based rates to customers within (i) the New England Power Pool, (ii) the New York Power Pool, and (iii) the Pennsylvania-New Jersey-Maryland Interconnection. The revised Rate Schedule also makes other minor changes.

Dynegy requests that the notice requirements set forth in Section 35.3(a) of the Commission's Regulations be waived to the extent required to allow the revised Rate Schedule to become effective as of August 18, 2000.

Comment date: September 7, 2000, in accordance with Standard Paragraph E at the end of this notice.

7. Duke Energy Corporation

[Docket No. ER00-3430-000]

Take notice that on August 17, 2000, Duke Energy Corporation (Duke), tendered for filing a Service Agreement with NRG Power Marketing Inc., for Transmission Service under Duke's Open Access Transmission Tariff.

Duke requests that the proposed Service Agreement be permitted to become effective on August 9, 2000.

Duke states that this filing is in accordance with Part 35 of the Commission's Regulations and a copy has been served on the North Carolina Utilities Commission.

Comment date: September 7, 2000, in accordance with Standard Paragraph E at the end of this notice.

8. Duke Energy Corporation

[Docket No. ER00-3431-000]

Take notice that on August 17, 2000, Duke Energy Corporation (Duke), tendered for filing a Service Agreement with NRG Power Marketing Inc., for Non-Transmission Service under Duke's Open Access Transmission Tariff.

Duke requests that the proposed Service Agreement be permitted to become effective on August 9, 2000.

Duke states that this filing is in accordance with Part 35 of the Commission's Regulations and a copy has been served on the North Carolina Utilities Commission.

Comment date: September 7, 2000, in accordance with Standard Paragraph E at the end of this notice.

9. Rockingham Power, L.L.C.

[Docket No. ER00-3433-000]

Take notice that on August 17, 2000, Rockingham Power, L.L.C., tendered for filing a long-term power sales agreement between Rockingham Power, L.L.C. and Duke Power, a Division of Duke Energy Corporation, pursuant to the Commission's August 3, 2000, letter order in the above proceeding.

Comment date: September 7, 2000, in accordance with Standard Paragraph E at the end of this notice.

10. Commonwealth Edison Company, Commonwealth Edison Company of Indiana

[Docket No. ER00-3434-000]

Take notice that on August 17, 2000, Commonwealth Edison Company and Commonwealth Edison Company of Indiana (collectively ComEd), tendered for filing filed to amend ComEd's Open Access Transmission Tariff (OATT) to offer Generator Imbalance Service to transmission customers who receive the output of generators located in the ComEd control area and submit schedules for transmission service under the OATT for that generation, where the generator is not otherwise covered under another agreement.

ComEd requests an effective date of November 1, 2000. Copies of the filing were served upon ComEd's jurisdictional customers and interested state commissions.

Comment date: September 7, 2000, in accordance with Standard Paragraph E at the end of this notice.

11. Carolina Power & Light Company

[Docket No. ER00-3435-000]

Take notice that Carolina Power & Light Company (CP&L) on August 17, 2000, tendered for filing a proposed Attachment M to its Open Access Transmission Tariff that prescribes the procedures that CP&L will employ with respect to requests to interconnect new generators with the CP&L system or to increase the capacity of generators that are already interconnected with the system.

CP&L requests that the Commission waive its notice requirements to allow the procedures to become effective on August 17, 2000.

Copies of the filing were served upon the public utility's jurisdictional customers, North Carolina Utilities Commission and South Carolina Public Service Commission. CP&L has also posted the procedures on its OASIS.

Comment date: September 7, 2000, in accordance with Standard Paragraph E at the end of this notice.

12. Allegheny Energy Service Corporation on behalf of Allegheny Energy Supply Company, LLC

[Docket No. ER00-3436-000]

Take notice that on August 17, 2000, Allegheny Energy Service Corporation on behalf of Allegheny Energy Supply Company, LLC (Allegheny Energy Supply), tendered for filing First Revised Service Agreement No. 39 under the Market Rate Tariff to incorporate a Netting Agreement with Coral Power, L.L.C., into the tariff provisions. Allegheny Energy Supply requests a waiver of notice requirements to make the Netting Agreement effective as of August 16, 2000 or such other date as ordered by the Commission.

Copies of the filing have been provided to the Public Utilities Commission of Ohio, the Pennsylvania Public Utility Commission, the Maryland Public Service Commission, the Virginia State Corporation Commission, the West Virginia Public Service Commission, and all parties of record.

Comment date: September 7, 2000, in accordance with Standard Paragraph E at the end of this notice.

13. Electric Energy, Inc.

[Docket No. ES00-36-002]

Take notice that on August 18, 2000, Electric Energy, Inc. submitted an amendment pursuant to Section 204 of the Federal Power Act seeking a waiver of the Commission's competitive bidding and negotiated placement requirements in 18 CFR 34.2.

Comment date: September 12, 2000, in accordance with Standard Paragraph E at the end of this notice.

14. Ameren Energy Generating Company

[Docket No. ES00-40-001]

Take notice that on August 18, 2000, Ameren Energy Generating Company submitted an amendment pursuant to Section 204 of the Federal Power Act seeking a waiver of the Commission's competitive bidding and negotiated placement requirements in 18 CFR 34.2.

Comment date: September 12, 2000, in accordance with Standard Paragraph E at the end of this notice.

15. Platte-Clay Electric Cooperative, Inc.

[Docket No. ES00-50-000]

Take notice that on August 17, 2000, Platte-Clay Electric Cooperative, Inc. (Platte-Clay), filed an application under Section 204 of the Federal Power Act seeking authorization to make long-term borrowings pursuant to a loan agreement with the National Rural Utilities Cooperative Finance Corporation in an amount not to exceed $75 million.

Platte-Clay also requests a waiver of the Commission's competitive bidding and negotiated placement requirements in 18 CFR 34.2.

Comment date: September 12, 2000, in accordance with Standard Paragraph E at the end of this notice.

16. Tosco Corporation Complainant v. SFPP, L.P., Respondent

[Docket No. OR00-9-000]

Take notice that on August 21, 2000, pursuant to Rule 206 of the Commission's Rules of Practice and Procedure (18 CFR 385.206) and the Procedural Rules Applicable to Oil Pipeline Procedures (18 CFR 343.1(a)), Tosco Corporation (Tosco) tendered for filing a Complaint in the captioned proceeding. Tosco alleges that SFPP, L.P. (SFPP), has violated and continues to violate the Interstate Commerce Act, 49 U.S.C. App. § 1 et seq., by charging unjust and unreasonable rates for all of SFPP's jurisdictional interstate services associated with its East, West, North, and Oregon Lines as more fully set forth in the Complaint.

Tosco requests that the Commission: (1) Examine SFPP's challenged rates and charges for all its jurisdictional interstate services and declare that such rates and charges are unjust and unreasonable; (2) order refunds and/or reparations to Tosco, including appropriate interest thereon, for the applicable refund and/or reparation periods to the extent the Commission finds that such rates and charges are unlawful; (3) determine just, reasonable, and nondiscriminatory rates for all of SFPP's jurisdictional interstate services; (4) award Tosco reasonable attorneys' fees and costs; and (5) order such other relief as may be appropriate.

Tosco states that it has served the Complaint on SFPP. Pursuant to Rule 343.4 of the Commission's Procedural Rules Applicable to Oil Pipeline Proceedings, SFPP's response to this Complaint is due within 30 days of the filing of the Complaint.

Comment date: September 11, 2000, in accordance with Standard Paragraph E at the end of this notice. Answers to the complaint shall also be due on or before September 11, 2000.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-21848 Filed 8-25-00; 8:45 am]

BILLING CODE 6717-01-P